DEPARTMENT OF DEFENSE

Department of the Navy

Notice of Availability of Government-Owned Inventions; Available for Licensing

AGENCY: Department of the Navy, DOD.

ACTION: Notice.

SUMMARY: The inventions listed below are assigned to the United States Government, as represented by the Secretary of the Navy and are available for licensing by the Department of the Navy.

U.S. Patent No. 6,672,537 entitled “One-Piece Wrap Around Fin”; U.S. Patent No. 6,588,343 entitled “Igniter System For a Flare”; U.S. Patent No. 6,686,866 entitled “Two-Piece Radar-Absorbing End Cap Assembly”; U.S. Patent No. 6,679,174 entitled “Flare Igniter With A Slurry Groove”; and U.S Patent No. 6,634,301 entitled “Enclosed Ignition Flare-Igniter.”

ADDRESSES: Requests for copies of the inventions cited should be directed to the Naval Surface Warfare Center, Crane Div., Code OCF, Bldg 64, 300 HWY 361, Crane, IN 47522-5001 and must include the patent number.

FOR FURTHER INFORMATION CONTACT: Mr. Darrell Boggess, Naval Surface Warfare Center, Crane Div, Code OCF, Bldg 64, 300 HWY 361, Crane, IN 47522-5001, telephone (812) 854-1130. An application for license may be downloaded from: http://www.crane.navy.mil/foia_pa/CranePatents.asp.

(Authority: 35 U.S.C. 207, 37 CFR Part 404.)
Dated: March 16, 2004.
S.K. Melancon,
Paralegal Specialist, Office of the Judge Advocate General, Alternate Federal Register Liaison Officer.

[FR Doc. 04-6279 Filed 3-19-04; 8:45 am]

BILLING CODE 3810-FF-P